ENVIRONMENTAL PROTECTION AGENCY

[EPA-HQ-SFUND-2012-0104; FRL-9525-2]

Agency Information Collection Activities; Submission to OMB for Review and Approval; Comment Request; Brownfields Program—Accomplishment Reporting (Revision)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 28, 2013.

ADDRESSES: Submit your comments, referencing Docket ID No. EPA-HQ-SFUND-2012-0104, to (1) EPA online using www.regulations.gov (our preferred method), by email to docket.superfund@epa.gov, or by mail to: EPA Docket Center, Environmental Protection Agency, Mailcode: 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Rachel Lentz, Office of Brownfields and Land Revitalization, (5105T), Environmental Protection Agency, 1200 Pennsylvania Ave. NW., Washington, DC 20460; telephone number: (202) 566-2745; fax number (202) 566-1476; email address: Lentz.Rachel@epa.gov.

SUPPLEMENTARY INFORMATION: EPA has submitted the following ICR to OMB for review and approval according to the procedures prescribed in 5 CFR 1320.12. On September 9, 2012 (77 FR 58127), EPA sought comments on this ICR pursuant to 5 CFR 1320.8(d). EPA did not receive any comments on this revision ICR notice. Any additional comments on this ICR should be submitted to EPA and OMB within 30 days of this notice.

The EPA has established a public docket for this ICR under Docket ID No. EPA-HQ-SFUND-2012-0104, which is available for online viewing at www.regulations.gov, or in person viewing at the Superfund Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the Superfund Docket is 202-566-9744.

Use the EPA's electronic docket and comment system at www.regulations.gov, to submit or view public comments, access the index listing of the contents of the docket, and to access those documents in the docket that are available electronically. Once in the system, select “docket search,” then key in the docket ID number identified above. Please note that the EPA's policy is that public comments, whether submitted electronically or in paper, will be made available for public viewing at www.regulations.gov as the EPA receives them and without change, unless the comment contains copyrighted material, confidential business information (CBI), or other information whose public disclosure is restricted by statute. For further information about the electronic docket, go to www.regulations.gov.

Title: Brownfields Program—Accomplishment Reporting (Revision).

ICR numbers: EPA ICR No. 2104.05, OMB Control No. 2050-0192.

ICR Status: This ICR is scheduled to expire on October 31, 2015. Under OMB regulations, the Agency may continue to conduct or sponsor the collection of information while this submission is pending at OMB.” An Agency may not conduct or sponsor, and a person is not required to respond to, a collection of information, unless it displays a currently valid OMB control number. The OMB control numbers for the EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This request is for a revision of the previously approved ICR 2104.04. The old forms were mistakenly attached in the last renewal's posting. The purpose of this revision is to post the revised forms that were mistakenly left out of the last ICR renewal. The revised forms are the Property Profile Form, Property Profile Form Instructions, Job Training Reporting Form, and Job Training Reporting Form Instructions.

The Small Business Liability Relief and Brownfields Revitalization Act (Public Law 107-118) (“the Brownfields Amendments”) was signed into law on January 11, 2002. The Act amends the Comprehensive Environmental Response, Compensation, and Liability Act (CERCLA), as amended, and authorizes the EPA to award cooperative agreements to states, tribes, local governments, and other eligible entities to assess and clean up brownfields sites. Under the Brownfields Amendments, a brownfield site means real property, the expansion, redevelopment, or reuse of which may be complicated by the presence or potential presence of a hazardous substance, pollutant, or contaminant. For funding purposes, the EPA uses the term “brownfield property(ies)” synonymously with the term “brownfield sites.” The Brownfields Amendments authorize the EPA to award several types of cooperative agreements to eligible entities on a competitive basis.

Under subtitle A of the Small Business Liability Relief and Brownfields Revitalization Act, States, tribes, local governments, and other eligible entities can receive assessment cooperative agreements to inventory, characterize, assess, and conduct planning and community involvement related to brownfields properties; cleanup cooperative agreements to carry out cleanup activities at brownfields properties; cooperative agreements to capitalize revolving loan funds and provide subgrants for cleanup activities; and job training cooperative agreements to support the creation and implementation of environmental job training and placement programs. Under Subtitle C of the Small Business Liability Relief and Brownfields Revitalization Act, State and tribes can receive cooperative agreements to establish and enhance their response programs. The cooperative agreements support activities necessary to establish or enhance four elements of state and tribal response programs and to meet the public record requirements under the statute. The four elements eligible for funding include: (a) Timely survey and inventory of brownfield sites in the State or in the tribal land; (b) oversight and enforcement authorities or other mechanisms and resources; (c) mechanisms and resources to provide meaningful opportunities for public participation; and (d) mechanisms for approval of a cleanup plan and verification and certification that cleanup is complete. States and tribes that receive funding under subtitle C must establish a public record system during the funding period unless an adequate public record system is already established.

Cooperative agreement recipients (recipients) have general reporting and record keeping requirements as a condition of their cooperative agreement that result in burden. A portion of this reporting and record keeping burden is authorized under 40 CFR Parts 30 and 31 and identified in the EPA's general grants ICR (OMB Control Number 2030-0020). The EPA requires Brownfields program recipients to maintain and report additional information to the EPA on the uses and accomplishments associated with the funded brownfields activities. The EPA uses several forms to assist recipients in reporting the information and to ensure consistency of the information collected. The EPA uses this information to meet Federal stewardship responsibilities to manage and track how program funds are being spent, to evaluate the performance of the Brownfields Cleanup and Land Revitalization Program, to meet the Agency's reporting requirements under the Government Performance Results Act, and to report to Congress and other program stakeholders on the status and accomplishments of the program.

This ICR addresses the burden imposed on recipients that are associated with those reporting and recordkeeping requirements that are specific to cooperative agreements awarded under the Small Business Liability Relief and Brownfields Revitalization Act.

Burden Statement: The annual public reporting and recordkeeping burden for this collection of information is estimated to average 1.2 hours per response. For non-profit respondents the estimate is 1.7 hours per response and for state/local/tribal government respondents the estimate is 1.2 hours per response. Burden means the total time, effort, or financial resources expended by persons to generate, maintain, retain, disclose or provide information to, or for, a Federal agency. This includes the time needed to review instructions; develop, acquire, install and utilize technology and systems for the purposes of collecting, validating and verifying information, processing and maintaining information, and disclosing and providing information; adjust the existing procedures to comply with any previously applicable instructions and requirements which have subsequently changed; train personnel to be able to respond to a collection of information; search data sources; complete and review the collection of information; and transmit or otherwise disclose the information.

Respondents/Affected Entities: State, Local, and Tribal Governments; Non-Profits.

Estimated Number of Respondents: 1,007.

Frequency of Response: Bi-Annual for subtitle C recipients; Quarterly for subtitle A recipients.

Estimated Total Annual Hour Burden: 3,167 hours.

Estimated Total Annual Cost: $308,926, includes $0 annualized capital or O&M costs.

Changes in the Estimates: There is no change in the total estimated hourly burden currently identified in the OMB Inventory of Approved ICR Burdens. OMB requested the separation of private (non-profit) and state/local/tribal government burden in the burden tables and, as a result, there was an increase of $15 in the total cost. This small increase is due to rounding.

John Moses,
Director, Collection Strategies Division.

[FR Doc. 2013-01829 Filed 1-28-13; 8:45 am]

BILLING CODE 6560-50-P